DEPARTMENT OF AGRICULTURE

Forest Service

Information Collection; Request for Comment; Objections to New Land Management Plans, Plan Amendments, and Plan Revisions

AGENCY: Forest Service, USDA.

ACTION: Notice, request for comments.

SUMMARY: Under the Paperwork Reduction Act of 1995, the Forest Service is seeking comments from all interested people and organizations on the extension of a currently approved information collection, objections to new land management plans, plan amendments, and plan revisions.

DATES: Comments must be received in writing on or before August 1, 2016 to be assured of consideration. Comments received after that date will be considered to the extent practicable.

ADDRESSES: Comments concerning this notice should be addressed to Forest Service, Assistant Director for Planning, Ecosystem Management Coordination, Mail Stop 1104, 1400 Independence Avenue SW., Washington, DC 20250-1104.

Comments also may be submitted via facsimile to (202) 205-1056 or by email to: aegoode@fs.fed.us.

The public may inspect comments received at the Ecosystem Management Coordination Office, 201 14th St. SW., Washington, DC, during normal business hours. Visitors are encouraged to call ahead to (202) 205-0895 to assist entry into the building.

FOR FURTHER INFORMATION CONTACT: Annie Eberhart Goode, Ecosystem Management Coordination, at (202) 205-1056 or email to: aegoode@fs.fed.us. Individuals who use telecommunication devices for the deaf (TDD) may call the Federal Relay Service (FRS) at 1-800-877-8339, 24 hours a day, every day of the year, including holidays.

SUPPLEMENTARY INFORMATION:

Title: Objection to new land management plans, plan amendments, and plan revisions.

OMB Number: 0596-0158.

Expiration Date of Approval: 07/31/2016.

Type of Request: Extension of a currently approved collection.

Abstract: The information that would be required by Title 36, Code of Federal Regulations, Part 219-Planning, Subpart A-National Forest System Land Management Planning (36 CFR part 219, subpart B), section 219.54 is the minimum information needed for a person to make a clear objection to a proposed land management plan, plan amendment, or plan revision. Under 36 CFR 219.54, a person must provide: name, mailing address, and telephone number or email address if available; signature; the name of the specific plan, amendment or revision that is the subject of the objection; and the name and title of the responsible official; a statement of the issues and/or the parts of the plan, plan amendment, or plan revision to which the objection applies; a concise statement explaining the objection and suggesting how the proposed plan decision may be improved. if applicable, the objector should identify how the objector believes that the plan, plan amendment, or plan revision is inconsistent with law, regulation, or policy; and a statement that demonstrates the link between prior substantive formal comments attributed to the objector and the content of the objection, unless the objection concerns an issue that arose after the opportunities for formal comment (§ 219.53(a)).

The reviewing officer must review the objection(s) and relevant information and then respond to the objector(s) in writing.

Estimate of Annual Burden: 10 hours to prepare the objection.

Type of Respondents: Interested and affected people, organizations, and governmental units who participate in the planning process: such as people who live in or near National Forest System (NFS) lands; local, State, and Tribal governments who have an interest in the plan; Federal agencies with an interest in the management of NFS lands and resources; not-for-profit organizations interested in NFS management, such as environmental groups, recreation groups, educational institutions; and commercial users of NFS land and resources.

Estimated Annual Number of Respondents: 50 a year.

Estimated Annual Number of Responses per Respondent: 1.

Estimated Total Annual Burden on Respondents: 500 hours.

Comment is invited on: (1) Whether the right information is being requested, including whether the information will have practical value; (2) whether the instructions in 36 CFR 219.54 are clear; (3) whether the Forest Service estimate of the burden of the collection of information is accurate, (10 hours); (4) ways to enhance the quality, usefulness, and clarity of the information to be collected; (5) ways to make the objections available to people, (6) ways to minimize the burden of the collection of information on people, including the use of automated, electronic, mechanical, or other technological collection techniques or other forms of information technology.

All comments received on this notice, including names and addresses when given, will be a matter of public record. Comments will be summarized and included in the request for Office of Management and Budget approval.

Dated: May 25, 2016.
Brian Ferebee,
Associate Deputy Chief, National Forest Systems.

[FR Doc. 2016-12797 Filed 5-31-16; 8:45 am]

BILLING CODE 3411-15-P